ENVIRONMENTAL PROTECTION AGENCY

[RCRA-2005-0006; FRL-7970-9]

Agency Information Collection Activities; Submission to OMB for Review and Approval; Comment Request; Hazardous Remediation Waste Management Requirements (HWIR-Media) (Renewal), EPA ICR Number 1755.04, OMB Control Number 2050-0161

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on September 30, 2005. Under OMB regulations, the Agency may continue to conduct or sponsor the collection of information while this submission is pending at OMB. This ICR describes the nature of the information collection and its estimated burden and cost.

DATES: Additional comments may be submitted on or before October 20, 2005.

ADDRESSES: Submit your comments, referencing docket ID number RCRA-2005-0006, to (1) EPA online using EDOCKET (our preferred method), by e-mail to RCRA-docket@epa.gov, or by mail to: EPA Docket Center, Environmental Protection Agency, RCRA Docket, mail code 5305T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Mike Fitzpatrick, Environmental Protection Agency, 1200 Pennsylvania Ave., NW., Washington, DC 20460; telephone number: 703-308-8411; fax number: 703-308-8638; e-mail address: fitzpatrick.mike@epa.gov.

SUPPLEMENTARY INFORMATION: EPA has submitted the following ICR to OMB for review and approval according to the procedures prescribed in 5 CFR 1320.12. On April 14, 2005 (70 FR 19757), EPA sought comments on this ICR pursuant to 5 CFR 1320.8(d). EPA received no comments.

EPA has established a public docket for this ICR under Docket ID No. RCRA-2005-0006, which is available for public viewing at the RCRA Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the RCRA Docket is (202) 566-0270. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Hazardous Remediation Waste Management Requirements (HWIR-Media) (Renewal).

Abstract: The Resource Conservation and Recovery Act of 1976 (RCRA), as amended, requires EPA to establish a national regulatory program to ensure that hazardous wastes are managed in a manner protective of human health and the environment. Under this program (known as the RCRA Subtitle C program), EPA regulates newly generated hazardous wastes, as well as hazardous remediation wastes (i.e., hazardous wastes managed during cleanup). To facilitate prompt and protective treatment, storage, and disposal of hazardous remediation wastes, EPA established three requirements for remediation waste management sites that are different from those for facilities managing newly generated hazardous waste:

• Performance standards for remediation waste management sites (40 CFR 264.1(j));

• A provision excluding remediation waste management sites from requirements for facility-wide corrective action; and

• A new form of RCRA permit for treating, storing, and disposing of hazardous remediation wastes (40 CFR part 270, subpart H). The new permit, a Remedial Action Plan (RAP), streamlines the permitting process for remediation waste management sites to allow cleanups to take place more quickly.

In addition, EPA created a new kind of unit called a “staging pile” (40 CFR 264.554) that allows more flexibility in storing remediation waste during cleanup. An agency may not conduct or sponsor, and a person is not required to respond to, a collection of information unless it displays a currently valid OMB control number. The OMB control numbers for EPA's regulations in 40 CFR are listed in 40 CFR part 9 and are identified on the form and/or instrument, if applicable.

Burden Statement: For owners/operators of hazardous remediation waste management sites subject to the 40 CFR 264.1(j) and part 270, subpart H requirements, the reporting burden is estimated to be 27 hours per respondent per year. The recordkeeping burden is estimated to be 42 hours per respondent per year. For owners/operators of hazardous remediation waste management sites subject to the 40 CFR 264.554 requirements for staging piles, the reporting burden is estimated to be 7 hours per year per respondent. The recordkeeping burden is estimated to be 13 hours per respondent per year.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Facility owners and operators.

Estimated Number of Respondents: 176.

Frequency of Response: one-time.

Estimated Total Annual Hour Burden: 4,944.

Estimated Total Annual Cost: $361,000, includes $0 annualized capital/startup costs, $26,000 annual O&M costs and $335,000 annual labor costs.

Changes in the Estimates: There is a decrease of only 15 hours in the total estimated annual hourly burden currently identified in the OMB Inventory of Approved ICR Burdens. The total annual O&M cost burden in this ICR decreased by $9,000 from the previous renewal (ICR #1775.03), which is due to refinements in the burden estimates. This decrease of $9,000 is therefore considered an “adjustment”.

Dated: September 12, 2005.
Oscar Morales,
Director, Collection Strategies Division.

[FR Doc. 05-18710 Filed 9-19-05; 8:45 am]

BILLING CODE 6560-50-P